NUCLEAR REGULATORY COMMISSION

[Docket No. 50-341-LA; ASLBP No. 20-966-02-LA-BD01]

DTE Electric Company; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

DTE Electric Company

(Fermi 2)

This proceeding involves a challenge to an application by DTE Electric Company for a license amendment to the operating license for the Fermi 2 nuclear reactor located in Monroe County, Michigan. The requested amendment would, inter alia, eliminate a license renewal condition to replace spent fuel pool storage racks containing Boraflex based on a proposal to install neutron absorbing inserts. In response to a notice filed in the Federal Register, see 85 FR 728, 731 (Jan. 7, 2020), Citizens' Resistance at Fermi 2 (CRAFT) filed a petition to intervene. See Petition of [CRAFT] For Leave to Intervene and For a Hearing Request to Invalidate a License Extension Condition by a License Amendment Request (Mar. 9, 2020).

The Board is comprised of the following administrative judges:

Paul S. Ryerson, Chairman, Atomic Safety and Licensing Board Panel, U.S. Nuclear Regulatory Commission, Washington, DC 20555-0001

Dr. Sue H. Abreu, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.¹

¹ In its memorandum referring CRAFT's Petition to Intervene to the Atomic Safety and Licensing Board Panel for appropriate action in accordance with 10 CFR 2.346(i), the Office of the Secretary stated:

The petition includes some discussion of the criteria and proposed NRC staff findings regarding a no significant hazards consideration determination. As stated in 10 CFR 50.58(b)(6), no petition or other request for review of, or hearing on, the staff's no significant hazards consideration determination will be entertained by the Commission. Accordingly, this referral memorandum is not to be construed as reflecting a determination that CRAFT is entitled to a review of, or hearing on, the staff's no significant hazards consideration determination.

Memorandum from Annette L. Vietti-Cook to E. Roy Hawkens (Mar. 18, 2020).

Dated: March 19, 2020, in Rockville, Maryland.
E. Roy Hawkens,
Chief Administrative Judge, Atomic Safety and Licensing Board Panel.

[FR Doc. 2020-06225 Filed 3-24-20; 8:45 am]

BILLING CODE 7590-01-P